DEPARTMENT OF THE INTERIOR

Bureau of Land Management

[CA-680-99-2822-00-D889]

Closure and Restriction Orders

AGENCY: Bureau of Land Management, (BLM) Interior.

ACTION: Implement an emergency closure of certain public lands in the Juniper Flats area, San Bernardino County, California.

SUMMARY: In a previous Federal Register Notice, Public lands in the Juniper Flats area were closed to human entry. Approximately 16,000 acres burned in the Willow fire were closed from October 17, 1999 to July 1, 2000. The closed area is not to be entered by any means of access unless addressed by the closure described below. This closure exempts human access (mechanized, motorized, equestrian, foot) within the confines of routes signed as open. No travel of any kind is authorized other than on these signed open routes. This closure also exempts non-mechanized access on the signed trail leading from the southernmost portion of the Bowen Ranch property, across BLM land, referred to as the “upper parking lot”, to the Forest Service trailhead, referred to as the “lower parking lot”, which leads to the Deep Creek Hot Springs.

DATES: This closure goes into effect at 8 a.m. on Saturday, July 1, 2000 and shall remain in effect until 8 a.m. on Saturday, June 30, 2001, unless non-compliance dictates an entire closure.

FOR FURTHER INFORMATION CONTACT: Tim Read, Barstow Field Office Manager, Bureau of Land Management, 2601 Barstow Road, Barstow, CA 92311; or call (760) 252-6000.

SUPPLEMENTARY INFORMATION: On Saturday, August 28, 1999, the Willow Fire started on U.S. Forest Service lands adjacent to BLM lands in the Juniper Flats area. The fire burned 63,486 acres, including approximately 16,000 acres of BLM land. Natural resources comprising the local ecosystems were extensively damaged by the fire. The affected public land has been closed to human entry since the fire, with the exception of foot travel on the hiking trail from Bowen Ranch to the Forest Service Trail leading to the Deep Creek Hot Springs. Although the landscape remains barren in many locations, treatments have been completed on several routes, including the installation of open route signs which should guide visitors over a temporary designated network of routes. This closure still allows for non-mechanized access on the trail leading to the Deep Creek Hot Springs. The trail is well marked and is located in T.3N. R.3W. Section 11. This closure also allows human, equestrian, mechanized, and motorized travel within the confines of signed open routes.

In general, the closed public lands are east of Deep Creek Road, south of the Atchison Topeka and Sante Fe rail lines, west of California Highway 18, and north of Deep Creek. The authority for this closure is 43 CFR 8364.1, 18 U.S.C. 3571. This closure only applies to those portions of the following sections burned during the Willow Fire: San Bernardino Base and Meridian, T.3N. R1W. sections 2, 3, 4, 5, 6; T.3N. R.2W. sections 1, 2, 3, 4, 5, 6, 7 and 8; T.3N. R3W. sections 1, 2, 3, 4, 5, 6, 7, 8, 9, 10, 11 and 12; T.4N. R.1W. sections 31 and 32; T.4N. R.2W. sections 26, 27, 28, 29, 31, 32, 33, 34 and 35; T.4N. R.3W. sections 21, 22, 23, 24, 25, 26, 27, 28, 30, 31, 32, 33, 34 and 35. Failure to comply with this closure order may result in a fine up to $100,000.00 or imprisonment up to 12 months, or both.

The only exemptions to this closure include the following activities: Law enforcement, emergency services, government business, or work to maintain utilities and infrastructure. Other specific exemptions may be permitted by the BLM Authorizing Officer.

Harold Johnson,
Acting Field Manager, BLM, Barstow Field Office.

[FR Doc. 00-17392 Filed 7-10-00; 8:45 am]

BILLING CODE 4310-40-M